DEPARTMENT OF THE INTERIOR

National Park Service

30-Day Notice of Submission to the Office of Management and Budget; Opportunity for Public Comment

AGENCY: Department of the Interior, National Park Service.

ACTION: Notice and request for comments.

SUMMARY: Under provisions of the Paperwork Reduction Act of 1995 and 5 CFR part 1320, Reporting and Recordkeeping Requirements, the National Park Service (NPS) invites public comments on an extension of a currently approved collection of information (OMB #1024-0224).

DATES: Public comments on this Information Collection Request (ICR) will be accepted on or before January 14, 2008.

ADDRESSES: You may submit comments directly to the Desk Officer for the Department of the Interior (OMB #1024-0224), Office of Information and Regulatory Affairs, OMB, by fax at 202/395-6566, or by electronic mail at oira_docket@omb.eop.gov. Please also send a copy of your comments to Dr. James Gramann, NPS Social Science Program, 1201 “Eye” St., Washington, DC 20005; or via phone at 202/513-7189; or via e-mail at James_Gramann@partner.nps.gov.

FOR FURTHER INFORMATION CONTACT: Dr. James Gramann, NPS Social Science Program, 1201 “Eye” St., Washington, DC 20005; or via phone at 202/513-7189; or via e-mail at James_Gramann@partner.nps.gov. You are entitled to a copy of the entire ICR package free-of-charge.

Comments Received on the 60-Day Federal Register Notice

The NPS published a 60-Day Notice to solicit public comments on this ICR in the Federal Register on March 27, 2007 (Vol. 72, FR 1495). The comment period closed on May 29, 2007. After notifications to stakeholders requesting comments, the NPS received three public comments as a result of the publication of this 60-Day Federal Register Notice. In addition, the NPS took part in a workshop to discuss the program.

One commenter thought that enough information had been collected over the eight years that the Programmatic Approval for NPS-Sponsored Public Surveys has been in existence and that the program should be discontinued. In response, it is necessary to point out that the information collected is unique, as the needs of parks continue to change. The NPS conducts a detailed review of all information collections submitted under the Programmatic Approval process to ensure that studies are not duplicated and that the information being collected is useful and relevant to management of NPS units.

A second comment was received, which inquired about the nature of the Programmatic Approval. NPS staff explained the Programmatic Approval process, and the commenter had no further questions.

A final comment was submitted by a principal investigator who does research on behalf of the NPS. The researcher outlined a number of concerns with the Programmatic Approval process, including: The length of time a submission spends in the review process, the inability of principal investigators to conduct methodological work, a lack of acceptance of certain research approaches, inconsistency in the review process and a need for studies to be able to replicate previous questionnaire designs for comparability, and a lack of communication between Social Science Office and the principal investigators. In response, the Social Science Program has taken steps to improve communication with the research community by sending out e-mail updates, informing investigators of changes to the OMB process (extended review times, updated contact information, etc.). To address the comments of the researcher further, the Social Science Program took part in a session at the 2007 George Wright Society Conference to discuss the Programmatic Approval process with interested stakeholders, including principal investigators and park staff. During this session, representatives of the Social Science Program explained the Paperwork Reduction Act and the history and evolution of the Programmatic Approval. Stakeholders were given time to ask questions about the process and express concerns and support. Overall, the stakeholders were appreciative of the program's ability to allow research to be done, while they were concerned with perceived inconsistencies in reviews and the timeliness of obtaining approval. Based on these comments, the Social Science Program is working to enhance its capabilities to review and process submissions and continuing to maintain good communication with researchers and NPS field staff.

SUPPLEMENTARY INFORMATION: Title: Programmatic Approval for NPS-Sponsored Public Survey.

Bureau Form Number(s): None.

OMB Number: 1024-0224.

Expiration Date: 01/31/2008.

Type of Request: Extension for a currently approved collection.

Description of Need: The NPS needs information concerning park visitors and visitor services, potential park visitors, and residents of communities near parks to provide park and NPS managers with usable knowledge for improving the quality and utility of agency programs, services, and planning efforts. Since many of the NPS surveys are similar in terms of the populations being surveyed, the types of questions being asked, and research methodologies, the NPS proposed and received clearance from OMB for a program of review for NPS-sponsored public surveys (OMB #1024-0224 exp. 8/31/2001; 3-year extension granted, exp. 9/30/2004).

The program presented an alternative approach to complying with the Paperwork Reduction Act. In the eight years since the NPS received clearance for the program of expedited review, 371 public surveys have been conducted in units of the National Park System. The benefits of this program have been significant to the NPS, the Department of the Interior, OMB, NPS cooperators, and the public. Significant time and cost savings have been incurred. Expedited approval was typically granted in 60 days or less from the date the Principal Investigator first submitted the survey package for review. This is a significant reduction over the approximate 6-8 months involved in the standard OMB review process. From FY 1999 through FY 2006, the expedited review process has accounted for a cost savings to the Federal Government and PIs estimated at $237,087. The obligation to respond is voluntary.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask OMB in your comment to withhold your personal identifying information from public review, we cannot guarantee that OMB will be able to do so.

Automated data collection; At the present time, there is no automated way to gather this information, since the information gathering process involves asking members of the public for their opinions on services and facilities that they used during their park visits, services and facilities they are likely to use on future park visits, and opinions regarding park management. The burden on individuals is minimized by rigorously designing public surveys to maximize the ability of the surveys to use small samples of individuals to represent large populations of the public, and by coordinating the program of surveys to maximize the ability of new surveys to build on the findings of prior surveys.

Frequency of collection: The program does not identify the frequency of collection because that number will be determined by the number of surveys submitted under the program.

Description of respondents: A sample of visitors to parks, potential visitors to parks, and residents of communities near parks.

Estimated average number of respondents: The program does not identify the number of respondents because that number will differ in each individual survey, depending on the purpose and design of each information collection.

Estimated average number of responses: The program does not identify the average number of responses because that number will differ in each individual survey. For most surveys, each respondent will be asked to respond only one time, so in those cases the number of responses will be the same as the number of respondents.

Estimated average time burden per respondent: The program does not identify the average burden hours per response because that number will differ from individual survey to individual survey, depending on the purpose and design of each information collection.

Frequency of Response: Most individual surveys will request only 1 response per respondent.

Estimated total annual reporting burden: The program identifies the requested total number of burden hours annually for all of the surveys to be conducted under its auspices to be 15,000 burden hours per year.

Dated: December 13, 2007.
Leonard E. Stowe,
NPS, Information Collection Clearance Officer.

[FR Doc. 07-6051 Filed 12-13-07; 8:45 am]

BILLING CODE 4312-53-M